DEPARTMENT OF THE INTERIOR

Bureau of Land Management

[OR-958-1430-ET; HAG-0299; OROR-16756]

Proposed Withdrawal Extension and Opportunity for Public Meeting; Washington

AGENCY: Bureau of Land Management, Interior.

ACTION: Notice.

SUMMARY: The U.S. Department of Agriculture, Forest Service, proposes to extend Public Land Order No. 6476 for another 20 year period. This order withdrew National Forest System land from location and entry under the mining laws to protect and preserve the best stand of redwoods at the northern limits of the species range for research and educational values, and to protect the sensitive fauna and endangered species within the Wheeler Creek Research Natural Area. The land has been and will remain open to mineral leasing. This notice also gives an opportunity to comment on the proposed action and to request a public meeting.

DATES: Comments and requests for a public meeting must be received by April 14, 2003.

ADDRESSES: Comments and meeting requests should be sent to the Forest Supervisor, Siskiyou National Forest, 333W. 8th Street, P.O. Box 520, Medford, Oregon 97501-0209, or the Bureau of Land Management, Oregon/Washington State Office, P.O. Box 2965, Portland, Oregon 97208.

FOR FURTHER INFORMATION CONTACT: Roger Mendenhall, Realty Specialist, Siskiyou National Forest, 541-471-6521, or Charles R. Roy, BLM Oregon/Washington State Office, 503-808-6189.

SUPPLEMENTARY INFORMATION: On July 1, 2002, U.S. Department of Agriculture, Forest Service, requested that Public Land Order No. 6476 be extended for an additional 20 year period. This withdrawal was made to protect and preserve the best stand of redwoods at the northern limits of the species range for research and educational values, and to protect the sensitive fauna and endangered species within the Wheeler Creek Research Natural Area in Curry County, Oregon. Public Land Order No. 6476 will expire on October 4, 2003.

The withdrawal comprises approximately 334 acres of National Forest System land. It is located in T. 40 S., R. 12 W., Willamette Meridian, as described in Public Land Order No. 6476. A complete description of the land can be provided by the Oregon State Office at the address shown above.

For a period of 90 days from the date of publication of this notice, all persons who wish to submit comments, suggestions, or objections in connection with the proposed extension, or request for a public meeting may present their views in writing to the Oregon State Director of the Bureau of Land Management, or Forest Supervisor.

If the authorized officer determines that a public meeting will be held, a notice of the time and place will be published in the Federal Register at least 30 days prior to the scheduled date of the meeting.

The withdrawal application will be processed in accordance with the regulations set forth in 43 CFR 2300.

Robert D. DeViney Jr.,
Chief, Branch of Realty and Records Services.

[FR Doc. 03-599 Filed 1-10-03; 8:45 am]

BILLING CODE 4310-33-P